SECURITIES AND EXCHANGE COMMISSION

[Release No. 34-87935; File No. SR-BOX-2019-32]

Self-Regulatory Organizations; BOX Exchange LLC; Notice of Withdrawal of Proposed Rule Change To Amend the Fee Schedule on the BOX Options Market LLC Facility To Establish BOX Connectivity Fees for Participants and Non-Participants Who Connect to the BOX Network

January 10, 2020.

On October 31, 2019, BOX Exchange LLC (“Exchange”) filed with the Securities and Exchange Commission (“Commission”), pursuant to Section 19(b)(1) of the Securities Exchange Act of 1934 (“Act”),¹ and Rule 19b-4 thereunder,² a proposed rule change to amend the Exchange's fee schedule to establish certain connectivity fees and reclassify its high speed vendor feed connection as a port fee. The proposed rule change was immediately effective upon filing with the Commission pursuant to Section 19(b)(3)(A) of the Act.³ The proposed rule change was published for comment in the Federal Register on November 19, 2019.⁴ The Commission received one comment letter on the proposal.⁵ On December 23, 2019, the Exchange withdrew the proposed rule change (SR-BOX-2019-32).

¹ 15 U.S.C. 78s(b)(1).

² 17 CFR 240.19b-4.

³ 15 U.S.C. 78s(b)(3)(A).

⁴ See Securities Exchange Act Release No. 87516 (November 13, 2019), 84 FR 63919.

⁵ See Letter from Edward Devlin IV, dated November 24, 2019.

⁶ 17 CFR 200.30-3(a)(12).

For the Commission, by the Division of Trading and Markets, pursuant to delegated authority.⁶
J. Matthew DeLesDernier,
Assistant Secretary.

[FR Doc. 2020-00588 Filed 1-15-20; 8:45 am]

BILLING CODE 8011-01-P